COMMITTEE FOR PURCHASE FROM PEOPLE WHO ARE BLIND OR SEVERELY DISABLED

Procurement List; Proposed Additions and Deletions

AGENCY: Committee for Purchase From People Who are Blind or Severely Disabled.

ACTION: Proposed additions to and deletions from the procurement list.

SUMMARY: The Committee is proposing to add products and services to the Procurement List that will be furnished by nonprofit agencies employing persons who are blind or have other severe disabilities, and deletes products previously furnished by such agencies.

DATES: Comments must be received on or before 7/8/2013.

ADDRESSES: Committee for Purchase From People Who are Blind or Severely Disabled, 1401 S. Clark Street, Suite 10800, Arlington, Virginia, 22202-4149.

FOR FURTHER INFORMATION CONTACT: For further information or to submit comments contact Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Aircraft Floor Board Kits

NSN: 1560-00-NIB-0001—KC-135, 848 sq ft.

NSN: 1560-00-NIB-0002—KC-135, 849 sq ft.

NSN: 1560-00-NIB-0003—KC-135, 875 sq ft.

NSN: 1560-00-NIB-0004—KC-135, 876 sq ft.

NPA: San Antonio Lighthouse for the Blind, San Antonio, TX

Contracting Activity: Dept of the Air Force, FA8126 AFSC PZIMB, Tinker AFB, OK

Coverage: C-List for 100% of the requirement of Tinker Air Force Base as aggregated by the Oklahoma City Air Logistics Center (FA8126 AFSC PZIMB), Tinker Air Force Base, OK.

Can Liner, Low Density, Star Seal

NSN: 8105-00-NIB-1400—Clear, Recycled Resin Material, 24″ x 33″

NSN: 8105-00-NIB-1401—Clear, Recycled Resin Material, 33″ x 44″

NSN: 8105-00-NIB-1402—Clear, Recycled Resin Material, 40″ x 48″

NSN: 8105-00-NIB-1403—Clear, Recycled Resin Material, 43″ x 48″

NSN: 8105-00-NIB-1404—Biohazard Red, Flat, 24″ x 27″

NSN: 8105-00-NIB-1405—Biohazard Red, Flat, 33″ x 39″

NSN: 8105-00-NIB-1406—Biohazard Red, Flat, 43″ x 48″

NPA: Envision, Inc., Wichita, KS

Contracting Activity: Department of Veterans Affairs, NAC, Hines, IL

Coverage: C-List for 100% of the requirement of the Department of Veterans Affairs as aggregated by the Department of Veterans Affairs National Acquisition Center, Hines, IL.

NSN: 7920-00-NIB-0564—Towel, Cleaning, Non-woven Microfiber, Disposable, 16″ x 16″

NPA: Bestwork Industries for the Blind, Inc., Runnemede, NJ

Contracting Activity: General Services Administration, Fort Worth, TX

Coverage: A-List for the Total Government Requirement as aggregated by the General Services Administration.

Services

Service Type/Location: Janitorial Service, Department of Transportation, Suisun Bay Reserve Fleet, 2595 Lake Herman Road, Benicia, CA.

NPA: Solano Diversified Services, Vallejo, CA

Contracting Activity: Dept of Transportation, Maritime Administration, San Francisco, CA.

Service Type/Location: Custodial Service, St. Elizabeths Campus, 2701 Martin Luther King Jr. Avenue SE., Washington, DC.

NPA: CW Resources, Inc., New Britain, CT.

Contracting Activity: General Services Administration, Public Buildings Service, Potomac Service Center, Washington, DC.

Deletions

The following products are proposed for deletion from the Procurement List:

Products

Scouring Powder

NSN: 7930-01-294-1115

NPA: None

Contracting Activity: General Services Administration, Fort Worth, TX

Socks and Gloves, Chemical Protective

NSN: 8415-01-509-2875—Socks, CPU, Army, Gray, XSS

NSN: 8415-01-509-2877—Socks, CPU, Army, Gray, S

NSN: 8415-01-509-2879—Socks, CPU, Army, Gray, M

NSN: 8415-01-509-2882—Socks, CPU, Army, Gray, L

NSN: 8415-01-509-2883—Socks, CPU, Army, Gray, XL

NSN: 8415-01-509-2898—Gloves, CPU, Army, Gray, XS

NSN: 8415-01-509-2902—Gloves, CPU, Army, Gray, S

NSN: 8415-01-509-2904—Gloves, CPU, Army, Gray, M

NSN: 8415-01-509-2905—Gloves, CPU, Army, Gray, L

NSN: 8415-01-509-2916—Gloves, CPU, Army, Gray, XL

NPA: Industrial Opportunities, Inc., Andrews, NC

Contracting Activity: Defense Logistics Agency Troop Support, Philadelphia, PA

Barry S. Lineback,
Director, Business Operations.

[FR Doc. 2013-13550 Filed 6-6-13; 8:45 am]

BILLING CODE 6353-01-P